DEPARTMENT OF THE INTERIOR

National Park Service

[NPS-WASO-NAGPRA-NPS0036097; PPWOCRADN0-PCU00RP14.R50000]

Notice of Inventory Completion: California State University, Chico, Chico, CA

AGENCY: National Park Service, Interior.

ACTION: Notice.

SUMMARY: In accordance with the Native American Graves Protection and Repatriation Act (NAGPRA), the California State University Chico (CSU Chico) has completed an inventory of human remains and associated funerary objects and has determined that there is a cultural affiliation between the human remains and associated funerary objects and Indian Tribes or Native Hawaiian organizations in this notice. The human remains and associated funerary objects were removed from Butte County, CA.

DATES: Repatriation of the human remains and associated funerary objects in this notice may occur on or after July 31, 2023.

ADDRESSES: Dawn Rewolinski, California State University, Chico, 400 W 1st Street, Chico, CA 95929, telephone (530) 898-3090, email drewolinski@csuchico.edu.

SUPPLEMENTARY INFORMATION: This notice is published as part of the National Park Service's administrative responsibilities under NAGPRA. The determinations in this notice are the sole responsibility of CSU Chico The National Park Service is not responsible for the determinations in this notice. Additional information on the determinations in this notice, including the results of consultation, can be found in the inventory or related records held by CSU Chico.

Description

Accession 47

Human remains representing, at minimum, 14 individuals were removed from site CA-BUT-323 in Butte County, CA. This site was first recorded by John R. Sterling in 1962. It was re-recorded by M. Boyton of Chico State College (now CSU Chico) in 1971, by which time it had been nearly destroyed. Collections records indicate that artifacts and human remains were collected by Chico State College in 1971. The 8,800 associated funerary objects are three antler awls, two charcoal samples, 4,655 fragments of debitage, 98 modified faunal elements, 33 modified shells, 182 modified stone tools, nine oversized stone tools, 115 projectile points, 10 soil samples, five clay samples, 3,316 unmodified faunal elements, 220 unmodified shell fragments, and 152 organics.

Accession 48

Human remains representing, at minimum, 67 individuals were removed from the Cana Highway site (CA-BUT-288) in Butte County, CA. This site was first recorded by Dorothy Hill and Keith Johnson in 1966. From 1971 to 1974, it was excavated by a CSU Chico field class supervised by Professor Makato Kowta. The 7,513 associated funerary objects are 13 organics, 3,165 lots consisting of debitage, 948 modified stones, 150 projectile points, 332 unmodified shells, 32 modified shells, 145 ash samples, 246 charcoal samples, 35 soil samples, 386 faunal remains, 97 modified faunal remains, 157 clay samples, and 1,807 pieces of modified clay.

Accession 79

Human remains representing, at minimum, eight individuals were removed from Butte County, CA. In 1974, after four burials were exposed by land levelling operations, these human remains were collected from The Carmen Ranch Site by John Furry, who was likely a student at CSU Chico. The collection has been at CSU Chico since that time. The 18 associated funerary objects are one bone awl, one stone core, 10 modified stones, five unmodified animal bones, and one antler wedge.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, historical, and expert opinion.

Determinations

Pursuant to NAGPRA and its implementing regulations, and after consultation with the appropriate Indian Tribes and Native Hawaiian organizations, CSU Chico has determined that:

• The human remains described in this notice represent the physical remains of 89 individuals of Native American ancestry.

• The 16,331 objects described in this notice are reasonably believed to have been placed with or near individual human remains at the time of death or later as part of the death rite or ceremony.

• There is a relationship of shared group identity that can be reasonably traced between the human remains and associated funerary objects described in this notice and the Mechoopda Indian Tribe of Chico Rancheria, California and the Paskenta Band of Nomlaki Indians of California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after July 31, 2023. If competing requests for repatriation are received, CSU Chico must determine the most appropriate requestor prior to repatriation. Requests for joint repatriation of the human remains and associated funerary objects are considered a single request and not competing requests. CSU Chico is responsible for sending a copy of this notice to the Indian Tribes identified in this notice.

Authority: Native American Graves Protection and Repatriation Act, 25 U.S.C. 3003, and the implementing regulations, 43 CFR 10.9, 10.10, and 10.14.

Dated: June 21, 2023.
Melanie O'Brien,
Manager, National NAGPRA Program.

[FR Doc. 2023-13816 Filed 6-28-23; 8:45 am]

BILLING CODE 4312-52-P